DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by December 1, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Foreign Agricultural Service

Title: Grant and Agreement Applications and Reporting for the National Agricultural Research, Extension, and Teaching Policy Act.

OMB Control Number: 0551-New.

Summary of Collection: Section 503 of the Agricultural Trade Expansion Act of 1978 (7 U.S.C. 5693), as delegated via 7 CFR 2.601, empowers the Foreign Agricultural Service (FAS) to assist the Secretary of Agriculture by, inter alia, providing agricultural technical assistance and training and by carrying out other legislated programs, including international agricultural research, extension, and teaching as authorized by the National Agricultural Research, Extension, and Teaching Policy Act of 1977, 7 U.S.C. 3101 et seq.

Information collection is required by 2 CFR parts 200 and 400. For assistance agreements awarded on or after December 26, 2014, 2 CFR part 400 implements OMB regulations in 2 CFR part 200. These regulations include only those provisions mandated by statue or added by USDA to ensure sound and effective financial assistance management. These regulations set forth pre-award, post-award, and after-the-grant requirements. This information is needed by FAS project officers, grant specialists, program coordinators, managers, and finance officials to manage/oversee recipient programmatic and financial performance under FAS assistance agreements.

Need and Use of the Information: Pre-award information is used by FAS personnel to qualify and select assistance agreement applicants for funding. Post-award reporting is used by FAS personnel to make amendments to established assistance agreement awards, to make payments pursuant to such awards, and to verify that the recipient is using Federal funds appropriately to comply with applicable Federal and agency requirements. The information is necessary to ensure minimum fiscal control and accountability for award funds and to deter waste, fraud, and abuse.

Description of Respondents: State agricultural experiment stations, State cooperative extension services, all colleges and universities, other research or education institutions and organizations, Federal and private agencies and organizations, individuals, and any other contractor or recipient, either foreign or domestic.

Number of Respondents: 100.

Frequency of Responses: Reporting: Other: Varies.

Total Burden Hours: 29,046.

Ruth Brown,
Departmental Information Collection Clearance Officer.

[FR Doc. 2023-24090 Filed 10-31-23; 8:45 am]

BILLING CODE 3410-10-P